DEPARTMENT OF COMMERCE

Foreign-Trade Zones Board

[B-16-2014]

Foreign-Trade Zone 50—Long Beach, California; Authorization of Production Activity, Schlosser Forge Company, (Aerospace and Industrial Turbine Engine Parts, Forgings), Rancho Cucamonga, CA

On February 4, 2014, the Board of Harbor Commissioners of the Port of Long Beach, grantee of FTZ 50, submitted a notification of proposed production activity to the Foreign-Trade Zones (FTZ) Board on behalf of Schlosser Forge Company, in Rancho Cucamonga, California.

The notification was processed in accordance with the regulations of the FTZ Board (15 CFR part 400), including notice in the Federal Register inviting public comment (79 FR 11756, March 3, 2014). The FTZ Board has determined that no further review of the activity is warranted at this time. The production activity described in the notification is authorized, subject to the FTZ Act and the FTZ Board's regulations, including Section 400.14, and further subject to a restriction requiring that Schlosser Forge Company admit all foreign status titanium products to FTZ 50 in privileged foreign status (19 CFR 146.41).

Dated: June 4, 2014.
Andrew McGilvray,
Executive Secretary.

[FR Doc. 2014-13504 Filed 6-9-14; 8:45 am]

BILLING CODE 3510-DS-P